DEPARTMENT OF LABOR

Employment and Training Administration

[TA-W-65,849]

Stimson Lumber Company, Clatskaine, OR; Notice of Termination of Investigation

Pursuant to Section 221 of the Trade Act of 1974, as amended, an investigation was initiated on April 24, 2009, in response to a petition filed by Woodworkers/IAM Local Lodge W536 on behalf of all workers at Stimson Lumber Company, Clatskaine, Oregon.

The petitioner requested that the petition be withdrawn. Consequently, the investigation has been terminated.

Signed at Washington, DC, this 6th day of May 2009.
Richard Church,
Certifying Officer, Division of Trade Adjustment Assistance.

[FR Doc. E9-13462 Filed 6-8-09; 8:45 am]

BILLING CODE 4510-FN-P